DEPARTMENT OF THE INTERIOR

National Park Service

[NPS-WASO-NRNHL-14519; PPWOCRADI0, PCU00RP14.R50000]

National Register of Historic Places; Notification of Pending Nominations and Related Actions

Nominations for the following properties being considered for listing or related actions in the National Register were received by the National Park Service before November 9, 2013. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by December 24, 2013. Before including your address, phone number, email address, or other personal identifying information in your comment, you should be aware that your entire comment—including your personal identifying information—may be made publicly available at any time. While you can ask us in your comment to withhold your personal identifying information from public review, we cannot guarantee that we will be able to do so.

Dated: November 21, 2013.
J. Paul Loether,
Chief, National Register of Historic Places/National Historic Landmarks Program.

ALABAMA

Elmore County

Ellerslie, 2650 Edgewood Rd., Millbrook, 13000957

Lauderdale County

Florence Mound, 1028 S. Court St., Florence, 13000958

Mobile County

Maysville Historic District, Bounded by Virginia, Ann, Duval & Houston Sts., Mobile, 13000959

COLORADO

Phillips County

Evergreen Corner Rural Historic Landscape, Jct. of Cty. Rds. 30 & 17, Haxtun, 13000960

DISTRICT OF COLUMBIA

District of Columbia

General Baking Company Bakery, 2146 Georgia Ave. NW., Washington, 13000961

FLORIDA

Broward County

Villa Providence, 324 SW. 2nd Ave., Hallandale Beach, 13000962

Escambia County

Mount Zion Missionary Baptist Church, 528 W. Jackson St., Pensacola, 13000963

Polk County

Auburndale City Hall, 1 Bobby Green Plz., Auburndale, 13000964

GEORGIA

DeKalb County

McDonough—Adams—Kings Highway Historic District, Bounded by W. College Ave., Kings Hwy., Oakview Rd. & McDonough St., Decatur, 13000965

Gwinnett County

Suwanee Historic District, Main, Russell & White Sts., Stonecypher & Scales Rds., N & S Railroad, Suwanee, 13000966

MARYLAND

Anne Arundel County

Citizens State Bank, 1402 Odenton Rd., Odenton, 13000967

Dorchester County

Rock M.E. Church, 2403 MD 16, Cambridge, 13000968

MICHIGAN

Kent County

Central Furniture Company—H.E. Shaw Furniture Company Factory, 400 Ionia Ave., SW., Grand Rapids, 13000969

MISSOURI

Boone County

Harrisburg School—Ancient Landmark Masonic Lodge Number 356 A.F. & A.M., 140 S. Harris St., Harrisburg, 13000970

MONTANA

Gallatin County

Montana State University Historic District, Roughly bounded by W. College & W. Grant Sts., S. 11th & S. 6th Aves., Bozeman, 13000972

NEW HAMPSHIRE

Grafton County

Watch Rock Camp, (Squam MPS) 414 US 3, Holderness, 13000973

Rockingham County

Beach Club, The, 2450 Ocean Blvd., Rye, 13000974

NEW JERSEY

Cumberland County

Wood Mansion House, 821 Columbia Ave., Millville City, 13000975

Monmouth County

Bradley Beach Free Public Library, 511 4th Ave., Bradley Beach, 13000976

Morris County

Seward House, 30 Flanders Rd. (Mount Olive Township), Flanders, 13000977

NEW MEXICO

Bernalillo County

AT & SF Freight Office, 314 1st St., Albuquerque, 13000971

NORTH CAROLINA

Watauga County

Flat Top Estate, Blue Ridge Pkwy., milepost 292.8 to 295.5, Blowing Rock, 13000978

OHIO

Butler County

Big Four Depot, 25 Charles St., Middletown, 13000979

Franklin County

Hanford Village George Washington Carver Addition Historic District, 1918-1939, 2012-2030 Kent & 783-879 Lyman Sts., 822-1958 Clay Ct., 851-853 Bowman Ave., Hanford Park, Columbus, 13000980

Montgomery County

Wright Library, 1776 Far Hills Ave., Dayton, 13000981

OREGON

Multnomah County

Rinehart Building, 3037-3041 N. Williams Ave., Portland, 13000982

TENNESSEE

Knox County

Frazier Bend Historic District, (Knoxville and Knox County MPS) N. of Jct. of Thorn Grove Pk. & Kodak Rd., Knoxville, 13000983

VIRGINIA

Bath County

Barton Lodge, 373 French's Hill Dr., Hot Springs, 13000984

Switchback School, (Rosenwald Schools in Virginia MPS) 210 Pinehurst Heights Rd., Hot Springs, 13000985

Three Hills, 348 Three Hills Ln., Warm Springs, 13000986

Wesley, John, Methodist Episcopal Church and Cemetery, 212 W. Warm Springs, Warm Springs, 13000987

Culpeper County

Elmwood Farm and Browning Store (Boundary Increase), Elmwood Farm Dr., Boston, 13000988

Highland County

Jones, C.P., House and Law Office, 144 & 160 W. Main St., Monterey, 13000989

Loudoun County

Huntland, 35955 Huntland Farm Rd., Middleburg, 13000990

Nelson County

Woods, Major James, House, 3042 Rockfish Valley Hwy., Nellysford, 13000991

Page County

White House, The, 1917 Kauffmans Mill Rd., Luray, 13000992

Richmond Independent city

Robinson House, 200 North Blvd., Richmond (Independent City), 13000993

Roanoke Independent city

Roanoke River and Railroad Historic District, Albemarle & Walnut Aves., SE., Williamson Rd., SE., 4th & Jefferson Sts., SE., Roanoke (Independent City), 13000994

WASHINGTON

King County

Barksdale, Julian and Marajane, House, 13226 42nd Ave., Seattle, 13000995

Dose, Charles P. and Ida, House, 2121 31st Ave., S., Seattle, 13000996

Pend Oreille County

Pend Oreille County Courthouse, 625 W. 4th St., Newport, 13000997

Pierce County

Central Elementary School, 401 S. 8th St., Tacoma, 13000998

Spokane County

Garland Theater, (Movie Theaters in Washington State MPS) 924 W. Garland Ave., Spokane, 13000999

Ridpath Hotel, 515 W. Sprague Ave., Spokane, 13001000

A request to move has been made for the following resource:

CALIFORNIA

San Bernardino County

Bono's Restaurant and Deli, 15395 Foothill Blvd., Fontana, 07001353

A request for removal has been made for the following resource:

TEXAS

Taylor County

Chambers, Samuel A., House, 224 Merchant, Abilene, 92000211

[FR Doc. 2013-29225 Filed 12-6-13; 8:45 am]

BILLING CODE 4312-51-P